DEPARTMENT OF COMMERCE

National Oceanic and Atmospheric Administration

Proposed Information Collection; Comment Request; Survey of Shore-Based and Boat-Based Non-Commercial Fishing on St. Croix, U.S. Virgin Islands

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 8, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Theresa L. Goedeke, (301) 713-3028 x 237 or theresa.goedeke@noaa.gov.

SUPPLEMENTARY INFORMATION:

I. Abstract

This request is for a new information collection to benefit local fishery managers in the U.S. Virgin Islands (USVI). Non-commercial fishing is an important activity on St. Croix, USVI yet robust data characterizing the catch, effort and cultural attributes of such fishing are limited. Without these basic data on the non-commercial fishery on St. Croix, it is not possible to develop required fishery management plans. Consequently, local fishery managers have asked for collection of information required to make management decisions, information that will help them to balance the need for more effective fishery management with social, economic and cultural imperatives of the region.

Researchers propose to conduct two distinct data collection efforts, Collection A and Collection B. Collection A will consist of a survey of non-commercial, shore-based fishers. This survey will ascertain the catch, effort, and socioeconomic characteristics of fishers using this mode of fishing on St. Croix. Collection B will be a survey of boat-based, non-commercial fishers on St. Croix to document levels of catch and effort for this mode of fishing.

The data gathered will be used to describe recreational and subsistence sectors in St. Croix, and evaluate the socio-economic impacts of federal regulatory actions.

In addition, the information will be used to strengthen and improve fishery management decision-making, satisfy legal mandates under Executive Order 12866, the Magnuson Stevens Fishery Conservation and Management Act (U.S.C. 1801 et seq.), the Regulatory Flexibility Act, the Endangered Species Act, and the National Environmental Policy Act, and other pertinent statues.

II. Method of Collection

Collection A, which will take place over a 12-month period, will be comprised of two data collection activities: (1) A survey of shore-based fishers, and (2) counts of shore-based fishers. Collection B, which will take place over a 24-month period, will include two data collection activities: (1) A survey of fishers at boat ramps and, (2) a count of boat trailers or vehicles at launch sites where surveys are administered.

III. Data

OMB Control Number: None.

Form Number: None.

Type of Review: Regular submission (request for a new information collection).

Affected Public: Individuals or households.

Estimated Number of Respondents: 5,400.

Estimated Time per Response: Collection A survey, 10 minutes; Collection B survey, 5 minutes.

Estimated Total Annual Burden Hours: 484 (Collection A, 67; Collection B, 417).

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 4, 2012.
Gwellnar Banks,
Management Analyst, Office of the Chief Information Officer.

[FR Doc. 2012-29703 Filed 12-7-12; 8:45 am]

BILLING CODE 3510-22-P